DEPARTMENT OF TRANSPORTATION

Office of the Secretary

14 CFR Parts 234, 244, 250, 255, 256, 257, 259, and 399

[Docket No. DOT-OST-2014-0056]

RIN 2105-AE11

Transparency of Airline Ancillary Fees and Other Consumer Protection Issues

AGENCY: Office of the Secretary (OST), Department of Transportation (DOT).

ACTION: Proposed rule; reopening of comment period.

SUMMARY: This action reopens the comment period for a Notice of Proposed Rulemaking (NPRM) on transparency of airline ancillary fees and other consumer protection issues that was published in the Federal Register on May 23, 2014. We are extending the end of the comment period from September 22, 2014, to September 29, 2014. Open Allies for Airfare Transparency and the Travel Technology Association (Travel Tech) have noted the delay in posting the summary of a meeting attended by DOT staff with representatives of Airlines for America (A4A), the Regional Airline Association (RAA), and several of their member airlines on August 7, 2014. The reopening of the comment period is intended to provide all interested parties sufficient time prior to the close of the comment period for this rulemaking to review the summary of the August 7 meeting that DOT posted in the rulemaking docket.

DATES: The comment period for the proposed rule published on May 23, 2014 (79 FR 29970), is reopened. Comments must be received by September 29, 2014. Comments received after this date will be considered to the extent practicable.

ADDRESSES: You may file comments identified by the docket number DOT-OST-2014-0056 by any of the following methods:

• Federal eRulemaking Portal: go to http://www.regulations.gov and follow the online instructions for submitting comments.

• Mail: Docket Management Facility, U.S. Department of Transportation, 1200 New Jersey Ave. SE., Room Wl2-140, Washington, DC 20590-0001.

• Hand Delivery or Courier: West Building Ground Floor, Room W12-140, 1200 New Jersey Ave. SE., between 9:00 a.m. and 5:00 p.m. ET, Monday through Friday, except Federal Holidays.

• Fax: (202) 493-2251.

Instructions: You must include the agency name and docket number DOT-OST-2014-0056 or the Regulatory Identification Number, RIN No. 2105-AE11, for the rulemaking at the beginning of your comment. All comments received will be posted without change to http://www.regulations.gov, including any personal information provided.

Privacy Act: Anyone is able to search the electronic form of all comments received in any of our dockets by the name of the individual submitting the comment (or signing the comment if submitted on behalf of an association, a business, a labor union, etc.). You may review DOT's complete Privacy Act statement in the Federal Register published on April 11, 2000 (65 FR 19477-78), or you may visit http://Docketslnfo.dot.gov.

Docket: For access to the docket to read background documents or comments received, go to http://www.regulations.gov or to the street address listed above. Follow the online instructions for accessing the docket.

FOR FURTHER INFORMATION CONTACT: Blane A. Workie, Office of the Assistant General Counsel for Aviation Enforcement and Proceedings, U.S. Department of Transportation, 1200 New Jersey Ave. SE., Washington, DC 20590, 202-366-9342 (phone), 202-366-7152 (fax), blane.workie@dot.gov (email).

SUPPLEMENTARY INFORMATION: On May 23, 2014, the Department published a Notice of Proposed Rulemaking (NPRM) on transparency of airline ancillary fees and other consumer protection issues which sought comment on a number of proposals to enhance protections for air travelers and improve the air travel environment. Comments on the matters proposed were to be received 90 days after publication of the NPRM, or by August 21, 2014. On July 31, 2014, the Department extended the comment period to September 22, 2014 as it was persuaded that more time was needed because of the complexity of the proposals. With this document, the Department is further extending the comment period to September 29, 2014 to provide all interested parties two full weeks to review the summary of an August 7 meeting that DOT posted in the rulemaking docket on September 15, 2014, affording commenters the opportunity, if necessary, to revise their comments prior to submission, or to supplement any previously filed comments. We do not anticipate any further extension of the comment period for this rulemaking, but we will consider comments filed after the close of the comment period to the extent possible.

Issued this 19th day of September, 2014, in Washington, DC.
Kathryn B. Thomson,
General Counsel, U.S. Department of Transportation.

[FR Doc. 2014-22902 Filed 9-24-14; 8:45 am]

BILLING CODE 4910-9X-P